OFFICE OF NATIONAL DRUG CONTROL POLICY

Appointment of Members of Senior Executive Services Performance Review Board

AGENCY: Office of National Drug Control Policy (ONDCP).

ACTION: Notice of appointments.

SUMMARY: The following persons have been appointed to the ONDCP Senior Executive Service Performance Review Board: Dr. Albert E. Brandenstein; Henry H. Marsden III, and Daniel Schecter.

FOR FURTHER INFORMATION CONTACT: Please direct any questions to Edward H. Jurith, General Counsel (202) 395-6622, Office of National Drug Control Policy, Executive Office of the President, Washington, DC 20503.

Linda V. Priebe,
Assistant General Counsel.

[FR Doc. 00-31790 Filed 12-13-00; 8:45 am]

BILLING CODE 3180-02-P